DEPARTMENT OF COMMERCE

National Oceanic and Atmospheric Administration

[RTID 0648-XA919]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D. (Permit Nos. 19257-01 and 20341-01), Carrie Hubard (Permit No. 23078), Jennifer Skidmore (Permit No. 23447), Sara Young (Permit Nos. 23554 and 23858), Malcolm Mohead (Permit Nos. 24016 and 24020), and Jordan Rutland (Permit No. 25417) at (301) 427-8401.

SUPPLEMENTARY INFORMATION: Notices were published in the Federal Register on the dates listed below that requests for a permit or permit amendment had been submitted by the below-named applicants. To locate the Federal Register notice that announced our receipt of the application and a complete description of the activities, go to www.federalregister.gov and search on the permit number provided in Table 1 below.

Table 1—Issued Permits and Permit Amendments
Permit No. | RTID | Applicant | Previous Federal Register notice | Issuance date
19257-01 | 0648-XE061 | Ann M. Zoidis, Cetos Research Organization, 11 Des Isle Avenue, Bar Harbor, ME 04609 | 80 FR 59736; October 2, 2015 | January 29, 2021.
20341-01 | 0648-XE773 | Craig Matkin, North Gulf Oceanic Society, 3430 Main Street, Suite B1, Homer, AK 99603 | 82 FR 11180; February 21, 2017 | February 11, 2021.
23078 | 0648-XA106 | Marilyn Mazzoil, Dolphin Census Inc., 9611 U.S. Highway 1, #382, Sebastian, FL 32958 | 85 FR 20251; April 10, 2020 | February 8, 2021.
23447 | 0648-XA489 | Alliance of Marine Mammal Parks and Aquariums, 218 N Lee Street, Suite 200, Alexandria, VA, 22314 (Responsible Party: Kathleen Dezio) | 85 FR 58340; September 18, 2020 | February 16, 2021.
23554 | 0648-XA606 | Colleen Reichmuth, Ph.D., Long Marine Laboratory, Institute of Marine Sciences Address at the University of California at Santa Cruz, 115 McAllister Way, Santa Cruz, CA 95060 | 85 FR 71633; November 10, 2020 | February 16, 2021.
23858 | 0648-XA468 | NMFS' Marine Mammal Laboratory, 7600 Sand Point Way NE, Seattle, WA 98115 (Responsible Party: John Bengtson, Ph.D.) | 85 FR 56220; September 11, 2020 | February 25, 2021.
24016 | 0648-XA558 | Jason Kahn, NMFS, 1315 East-West Highway, Silver Spring, MD 20910 | 85 FR 65030; October 14, 2020 | January 28, 2021.
24020 | 0648-XA558 | Michael Stangl, Delaware Department of Natural Resources and Environmental Control, 3002 Bayside Drive, Dover, DE 19901 | 85 FR 65030; October 14, 2020 | January 28, 2021.
25417 | 0648-XA786 | Silverback Films, 1 St. Augustine's Yard, Gaunts Lane, Bristol BS1 5DE, United Kingdom (Responsible Party: Edward Charles) | 86 FR 1481; January 8, 2021 | February 24, 2021.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: March 5, 2021.
Amy Sloan,
Acting Chief, Permits and Conservation Division, Office of Protected Resources, National Marine Fisheries Service.

[FR Doc. 2021-05003 Filed 3-9-21; 8:45 am]

BILLING CODE 3510-22-P